DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 9, 2001.

Interested persons are invited to submit written comments regarding the subject matter of the investigations to the Director, Division of Trade Adjustment Assistance, at the address shown below, not later than July 9, 2001.

The petitions filed in this case are available for inspection at the Office of the Director, Division of Trade Adjustment Assistance, Employment and Training Administration, U.S. Department of Labor, Room C-5311, 200 Constitution Avenue, NW., Washington, DC 20210.

Signed at Washington, DC this 29th day of May, 2001.
Edward A. Tomchick,
Director, Division of Trade Adjustment Assistance.

Appendix
[Petitions instituted on 05/29/2001]
TA-W | Subject firm (petitioners) | Location | Date of petition | Product(s)
39,315 | Boeing Co. (The) (UAW) | Ridley, PA | 05/11/2001 | Jet Airplane Wing Fabrication.
39,316 | Ametek, Inc. (Wkrs) | Graham, NC | 05/10/2001 | Horsepower AC Electric Motors.
39,317 | Alltel Communications (Wrks) | Savannah, GA | 05/08/2001 | Provided Financial Services.
39,318 | Continental Industries (Comp) | Mesa, AZ | 05/14/2001 | Solid State Relays.
39,319 | Stanley Works (IAMAW) | New Britain, CT | 05/08/2001 | Hinges for Stoves and Refrigerators.
39,320 | Ogemaw Forge (UAW) | West Branch, MI | 04/30/2001 | Automobile Ball Joints, Steering Yokes.
39,321 | Stork RPM, Inc. (Comp) | Tuscumbia, AL | 05/03/2001 | Nickel Plated Carbon Foam.
39,322 | Durr Robotics/Behr System (Wrks) | Auburn Hills, MI | 05/10/2001 | Automated Paint Systems.
39,323 | Atlantic Wire and Cable (Wrks) | College Point, NY | 05/11/2001 | Insulated Copper Wire.
39,324 | Maverick Tube Corp. (Comp) | Beaver Falls, PA | 05/11/2001 | Cold Drawn Mechanical Tubes.
39,325 | Mercersburg Apparel Co (Comp) | Mercersburg, PA | 05/10/2001 | Airline Uniforms.
39,326 | Chiquola Fabrics, LLC (Comp) | Kingsport, TN | 04/04/2001 | Cotton Print Cloth.
39,327 | Simpson Timber Co. (IAMAW) | Tacoma, WA | 05/08/2001 | Softwood Dimension Lumber.
39,328 | Komatsu Mining Systems (IBB) | Peoria, IL | 05/09/2001 | Truck Frames.
39,329 | DyStar L.P (Comp) | Charlotte, NC | 05/15/2001 | Textile Dyes.
39,330 | Volunteer Leather (Comp) | Milan, TN | 05/15/2001 | Finished Leather for Shoe Industry.
39,331 | Huntco Steel, Inc. (Comp) | Blytheville, AR | 05/16/2001 | Steel.
39,332 | Heckett Multi Serv. (Wrks) | Kansas City, MO | 04/20/2001 | Steel Rods and Grinding Balls.
39,333 | Republic Paperboard Co (Wrks) | Commerce City, CO | 05/14/2001 | Paper Board/Wall Board Paper.
39,334 | WCI Outdoor Products, Inc (Comp) | Swainsboro, GA | 05/11/2001 | Cloth Grass Catcher.
39,335 | Acordis Cellulosic Fibers (Comp) | Axis, AL | 05/14/2001 | Rayon Fiber.
39,336 | Meridian Automotive (UAW) | Lapeer, MI | 04/04/2001 | Automotive Parts.
39,337 | Bayer Corp—Diagnostic (USWA) | Mishawaka, IN | 05/14/2001 | Alka-Seltzer, One A Day Vitamins.
39,338 | Illinois Tool Works (Comp) | Arlington, TX | 05/15/2001 | Molded Plastic Trays.
39,339 | M. Fine and Sons Mfg. (Comp) | Louisville, KY | 05/16/2001 | Men's, Boys' and Girls' Apparel.
39,340 | C and D Technologies (Comp) | Tucson, AZ | 05/17/2001 | Power Converters.
39,341 | Dairy Farmers of America (Wrks) | Fergus Falls, MN | 05/10/2001 | Cheese Products.
39,342 | Kelly Springfield Tire (Co.) | Tyler, TX | 05/16/2001 | Radial Passenger Tires.
39,343 | Covenant Mill, Inc. (Wrks) | Dallas, NC | 05/14/2001 | Fabric for Apparel.
39,344 | Americ Disc, Inc. (Wrks) | Clinton, TN | 05/15/2001 | Replication of Compact Discs.
39,345 | Tri State Plastics (Co.) | Gastonia, NC | 05/15/2001 | Plastic Textile Machinery Parts.
39,346 | Acadia Polymers | Paragould, AR | 05/15/2001 | Rubber Bushings, Seals.
39,347 | Capco (Wrks) | Roanoke, VA | 05/15/2001 | Custom Built Roll Grinders.
39,348 | Z and Z Logging (Wrks) | Mt. Hood, OR | 05/07/2001 | Logging, Timber.
39,349 | Acme Die Casting, Inc (UAW) | Racine, WI | 05/09/2001 | Castings.
39,350 | Madill Equipment USA (Wrks) | Kalama, WA | 05/11/2001 | Heavy Logging Equipment.
39,351 | A.P. Green Industries (Wrks) | Mexico, MO | 05/15/2001 | Steel Products.
39,352 | Midwest Tanning Co. (Co.) | South Milwaukee, WI | 05/04/2001 | Tanners of Cow Hides.
39,353 | Double Springs Corp. (Co.) | Double Springs, AL | 05/14/2001 | Work Shirts.
39,354 | Neely Manufacturing Co. (Co.) | Smithville, TN | 05/15/2001 | Children's Woven Shirts.
39,355 | KCS Mountain Resources (Co.) | Worland, WY | 05/10/2001 | Crude Oil, Natural Gas and Gas Liquids.
39,356 | Kendall Healthcare (Wrks) | Chatsworth, CA | 05/16/2001 | Medical Equipment and Supplies.
39,357 | Geoffrey Beene, Inc (UNITE) | New York, NY | 05/10/2001 | Ladies' Dresses.
39,358 | Turner Industries II, Ltd (Wrks) | Bowling Green, KY | 05/14/2001 | Tee Shirts.
39,359 | GE Marquette Medical (IBT) | Wallingford, CT | 05/15/2001 | Medical Equipment.
39,360 | Kachina Communications (Co.) | Cottonwood, AZ | 05/14/2001 | Transceivers and Related Accessories.
39,361 | Avery Dennison—Spartan (Wrks) | Holt, MI | 05/11/2001 | Tape (Trimbrite & Poststripe).
39,362 | Henderson Leisurewear (Co.) | Henderson, TN | 05/21/2001 | Ladies' Housecoats and Dresses.

[FR Doc. 01-16158 Filed 6-26-01; 8:45 am]

BILLING CODE 4510-30-M